DEPARTMENT OF THE INTERIOR

Bureau of Land Management

[NV-930-1430-ET; N-75209]

Notice of Proposed Withdrawal and Opportunity for Public Meeting; Nevada

AGENCY: Bureau of Land Management, Interior.

ACTION: Notice.

SUMMARY: The Bureau of Land Management proposes to withdraw a 2,303.61 acres of public lands from surface entry and mining for a period of 20 years to protect public health and safety from lands contaminated by previous mining operations. This notice closes the lands from surface entry and mining for up to 2 years while various studies and analyses are made to make a final decision on the withdrawal application.

DATES: Comments and requests for a meeting should be received on or before August 6, 2002.

ADDRESSES: Comments and meeting requests should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: On March 25, 2002, a petition was approved allowing the Bureau of Land Management to file an application to withdraw the following described public lands from settlement, sale, location, or entry under the general land laws, including the mining laws, subject to valid existing rights:

Mount Diablo Meridian

T 10 N., R. 35 E.,

Sec. 1, lots 1, 8, 9, 16, 17, and E½SE¼;

T. 10 N., R. 36 E.,

Sec. 4, lots 9 to 14, inclusive, lots 16 to 20, inclusive, W½SW¼, W½E½SW¼, N½NE¼NE¼SW¼, N½SE¼SE¼SW¼, and S½NE¼SE¼SW¼;

Sec 6;

Sec. 9, lots 1 to 4, inclusive, SW¼NE¼NE¼, SE¼NE¼, S½NE¼SW¼NE¼, S½SE¼SW¼NE, W½NW¼NE¼NW¼, SW¼NE¼NW¼, NW¼NW¼, N½SW¼NW¼, N½SE¼NW¼, SW¼SW¼NW¼, NE¼SE¼SW¼NW¼, NW¼SE¼SW¼NW¼, SW¼SE¼SW¼NW¼, NW¼NE¼NW¼SW¼, SW¼NE¼NW¼SW¼, SE¼NE¼NW¼SW¼, NW¼NW¼SW¼, S½ NW¼SW¼, SW¼SW¼, S½N½SE¼SW¼, and S½SE¼SW¼;

Sec. 10, NW¼SW¼, NE¼SW¼SW¼, N½NW¼SW¼SW¼, S½SW¼SW¼, and SE¼SW¼;

Sec. 15, N½;

sec. 16, N½NW¼SW¼, SE¼NE¼NE¼, W½SW¼NE¼, SE¼SW¼NE¼, SE¼SE¼NE¼, and E½SE¼NE¼.

The areas described aggregate 2,303.61 acres in Nye and Mineral Counties, Nevada.

The purpose of the proposed withdrawal is to protect the public safety as well as to prevent the filing of mining claims which would interfere with the reclamation of the Paradise Peak Mine site. The Paradise Peak Mine was the site of mining and milling operations for many years. Operations have ceased and the operator has filed for bankruptcy. This area is known to contain residue of mercury and other heavy metals that can be hazardous to public users. The Bureau of Land Management has collected the bond money and intends to reclaim the site. A withdrawal would preclude the filing of mining and mill site claims while the site is being reclaimed.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting. The application will be processed in accordance with the regulations set forth in 43 CFR part 2300.

For a period of 2 years from the date of publication of this notice in the Federal Register, the lands will be segregated as specified above unless the application is denied or canceled or the withdrawal is approved prior to that date. Other uses which will be permitted during this segregative period are rights-of-way, leases, and permits.

Dated: April 10, 2002.
Jim Stobaugh,
Lands Team Lead.

[FR Doc. 02-11433 Filed 5-7-02; 8:45 am]

BILLING CODE 4310-HC-P